DEPARTMENT OF ENERGY

Federal Energy Regulatory Commission

[Docket No. CP02-114-000]

Columbia Gas Transmission Corporation; Notice of Application

March 19, 2002.

Take notice that on March 14, 2001, Columbia Gas Transmission Corporation (Columbia), 12801 Fair Lakes Parkway, Fairfax, Virginia 22030-0146, filed in Docket No. CP02-114-000 an application pursuant to section 7(b) of the Natural Gas Act (NGA) for permission and approval to abandon its Well No. 6764 and associated appurtenances located in Richland County, Ohio, in Columbia's Lucas Storage Field, all as more fully set forth in the application.

Copies of this filing are on file with the Commission and are available for public inspection. This filing may also be viewed on the Web at http://www.ferc.gov using the “Rims” link, select “Docket#” and follow the instructions (call 202-208-2222 for assistance).

Columbia states that the physical condition of the facilities proposed for abandonment have deteriorated to the extent that an expensive repair or abandonment is required. Columbia further states that it has determined that repairs would be uneconomic due to the poor performance of the well.

Any questions regarding the application should be directed to Fredric J. George, Senior Attorney, Columbia Gas Transmission Corporation, P.O. Box 1273, Charleston, West Virginia 25315-1273 at (304) 357-2359.

There are two ways to become involved in the Commission's review of this project. First, any person wishing to obtain legal status by becoming a party to the proceedings for this project should, on or before April 9, 2002, file with the Federal Energy Regulatory Commission, 888 First Street, NE Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's Web site under the “e-filing” link.

If the Commission decides to set the application for a formal hearing before an Administrative Law Judge, the Commission will issue another notice describing that process. At the end of the Commission's review process, a final Commission order approving or denying a certificate will be issued.

Linwood A. Watson, Jr.,
Deputy Secretary.

[FR Doc. 02-7077 Filed 3-22-02; 8:45 am]

BILLING CODE 6717-01-P